DEPARTMENT OF STATE

[Public Notice 4061]

Determination Pursuant to Section 1(b) of Executive Order 13224 Relating to Babbar Khalsa International and the International Sikh Youth Federation

Acting under the authority of section 1(b) of Executive Order 13224 of September 23, 2001, and in consultation with the Secretary of the Treasury and the Attorney General, I hereby determine that Babbar Khalsa International and the International Sikh Youth Federation have committed, or pose a serious risk of committing, acts of terrorism that threaten the security of U.S. nationals or the national security, foreign policy, or economy of the United States.

Consistent with the determination in section 10 of Executive Order 13224 that prior notice to persons determined to be subject to the Order who might have a constitutional presence in the United States would render ineffectual the blocking and other measures authorized in the Order because of the ability to transfer funds instantaneously, I determine that no prior notice need be provided to any person subject to this determination who might have a constitutional presence in the United States because to do so would render ineffectual the measures authorized in the Order.

This notice shall be published in the Federal Register.

Colin L. Powell,
Secretary of State, Department of State.

[FR Doc. 02-16799 Filed 7-2-02; 8:45 am]

BILLING CODE 4710-10-P